DEPARTMENT OF HOMELAND SECURITY

Federal Emergency Management Agency

44 CFR Part 65

[Docket ID FEMA-2011-0002]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama:
Calhoun (FEMA Docket No.: B-1165) | City of Oxford (10-04-2692P) | October 22, 2010; October 29, 2010; The Anniston Star | The Honorable Leon Smith, Mayor, City of Oxford, P.O. Box 3383, Oxford, AL 36203 | February 28, 2011 | 010023
Calhoun (FEMA Docket No.: B-1165) | Unincorporated areas of Calhoun County (10-04-2692P) | October 22, 2010; October 29, 2010; The Anniston Star | Mr. James “Pappy” Dunn, Commissioner, Calhoun County, 1702 Noble Street, Suite 103, Anniston, AL 36201 | February 28, 2011 | 010013
Arizona:
Pinal (FEMA Docket No.: B-1172) | City of Casa Grande (10-09-1532P) | November 12, 2010; November 19, 2010; The Casa Grande Dispatch | The Honorable Robert M. Jackson, Mayor, City of Casa Grande, 510 East Florence Boulevard, Casa Grande, AZ 85122 | November 5, 2010 | 040080
Pinal (FEMA Docket No.: B-1172) | City of Maricopa (10-09-2020P) | November 4, 2010; November 11, 2010; The Casa Grande Dispatch | The Honorable Anthony Smith, Mayor, City of Maricopa, 45145 West Madison Avenue, Maricopa, AZ 85139 | March 11, 2011 | 040052
Pinal (FEMA Docket No.: B-1172) | Unincorporated areas of Pinal County (10-09-2020P) | November 4, 2010; November 11, 2010; The Casa Grande Dispatch | Mr. Pete Rios, Chairman, Pinal County Board of Supervisors, P.O. Box, 827 Florence, AZ 85132 | March 11, 2011 | 040077
Yavapai (FEMA Docket No.: B-1172) | Unincorporated areas of Yavapai County (10-09-0470P) | November 10, 2010; November 17, 2010; The Daily Courier | Ms. Carol Springer, Chair, Yavapai County Board of Supervisors, 1015 Fair Street Prescott, AZ 86305 | March 17, 2011 | 040093
California: Contra Costa (FEMA Docket No.: B-1177) | City of Oakley (10-09-3624P) | December 8, 2010; December 15, 2010; The Contra Costa Times | The Honorable Jim Frazier Mayor, City of Oakley, 3231 Main Street Oakley, CA 94561 | December 24, 2010 | 060766
Colorado: Jefferson (FEMA Docket No.: B-1177) | City of Lakewood (11-08-0033P) | December 9, 2010; December 16, 2010; The Golden Transcript | The Honorable Bob Murphy, Mayor, City of Lakewood, 480 South Allison Parkway, Lakewood, CO 80226 | December 6, 2010 | 085075
Florida:
Clay (FEMA Docket No.: B-1177) | Unincorporated areas of Clay County (10-04-6297P) | December 17, 2010; December 24, 2010; The Florida Times-Union | Mr. Travis Cummings, Chairman, Clay County Board of Commissioners, P.O. Box 1366, Green Cove Springs, FL 32043 | December 9, 2010 | 120064
Duval (FEMA Docket No.: B-1177) | City of Jacksonville (10-04-6297P) | December 17, 2010; December 24, 2010; The Florida Times-Union | The Honorable John Peyton, Mayor, City of Jacksonville, 117 West Duval Street, Suite 400 Jacksonville, FL 32202 | December 9, 2010 | 120077
Leon (FEMA Docket No.: B-1172) | Unincorporated areas of Leon County (10-04-8400P) | October 29, 2010; November 5, 2010; The Tallahassee Democrat | Mr. John E. Dailey, Chairman, Leon County Board of Commissioners, 301 South Monroe Street, Tallahassee, FL 32301 | March 7, 2011 | 120143
Okaloosa (FEMA Docket No.: B-1172) | Unincorporated areas of Okaloosa County (10-04-8273P) | November 16, 2010; November 23, 2010; The Northwest Florida Daily News | Mr. James Campbell, Chairman, Okaloosa County Board of Commissioners, 1804 Lewis Turner Boulevard, Suite 100, Fort Walton Beach, FL 32547 | November 8, 2010 | 120173
Georgia:
Barrow (FEMA Docket No.: B-1165) | Unincorporated areas of Barrow County (10-04-4322P) | October 20, 2010; October 27, 2010; The Barrow County News | Mr. Daniel Yearwood, Jr., Chairman, Barrow County Board of Commissioners, 233 East Broad Street, Winder, GA 30680 | February 24, 2011 | 130497
Bryan (FEMA Docket No.: B-1172) | City of Richmond Hill (10-04-6327P) | November 3, 2010; November 10, 2010; The Bryan County News | The Honorable E. Harold, Fowler Mayor, City of Richmond Hill, P.O. Box 250, Richmond Hill, GA 31324 | March 10, 2011 | 130018
Tift (FEMA Docket No.: B-1172) | City of Tifton (09-04-7386P) | November 19, 2010; November 26, 2010; The Tifton Gazette | The Honorable J. G. Cater, Jr., Mayor, City of Tifton, P.O. Box 229, Tifton, GA 31793 | March 28, 2011 | 130171
Tift (FEMA Docket No.: B-1172) | Unincorporated areas of Tift County (09-04-7386P) | November 19, 2010; November 26, 2010; The Tifton Gazette | Mr. Grady Thompson, Chairman, Tift County Commission, 225 North Tift Avenue, Tifton, GA 31794 | March 28, 2011 | 130404
Mississippi: DeSoto (FEMA Docket No.: B-1172) | City of Olive Branch (10-04-1806P) | November 2, 2010; November 9, 2010; The DeSoto Times-Tribune | The Honorable Sam Rikard, Mayor, City of Olive Branch, 9200 Pigeon Roost Road, Olive Branch, MS 38654 | March 9, 2011 | 280286
North Carolina:
Alamance (FEMA Docket No.: B-1172) | Unincorporated areas of Alamance County (10-04-6308P) | October 27, 2010; November 3, 2010; The Times-News | Ms. Linda Massey, Chair, Alamance County Board of Commissioners, 124 West Elm Street, Graham, NC 27253 | March 3, 2011 | 370001
Mecklenburg (FEMA Docket No.: B-1172) | City of Charlotte (10-04-7369P) | October 29, 2010; November 5, 2010; The Charlotte Observer | The Honorable Anthony Foxx, Mayor, City of Charlotte, 600 East 4th Street, 15th floor, Charlotte, NC 28202 | March 7, 2011 | 370159
Union (FEMA Docket No.: B-1172) | Unincorporated areas of Union County (10-04-7369P) | October 29, 2010; November 5, 2010; The Enquirer-Journal | Mr. Jerry Simpson, Chairman, Union County Board of Commissioners, 500 North Main Street, Monroe, NC 28112 | March 7, 2011 | 370234
South Carolina: Dorchester (FEMA Docket No.: B-1177) | Unincorporated areas of Dorchester County (10-04-7426P) | November 3, 2010; November 10, 2010; The Post and Courier | Mr. Larry Hargett, Chairman, Dorchester County Council, 201 Johnson Street, St. George, SC 29477 | March 10, 2011 | 450068
South Dakota:
Lawrence (FEMA Docket No.: B-1172) | City of Spearfish (10-08-0269P) | November 10, 2010; November 17, 2010; The Black Hills Pioneer | The Honorable Jerry Krambeck, Mayor, City of Spearfish, 625 North 5th Street Spearfish, SD 57783 | November 3, 2010 | 460046
Minnehaha (FEMA Docket No.: B-1172) | City of Brandon (10-08-0604P) | November 10, 2010; November 17, 2010; The Argus Leader | The Honorable Larry Beesley, Mayor, City of Brandon, 304 Main Avenue, Brandon, SD 57005 | March 17, 2011 | 460296
Minnehaha (FEMA Docket No.: B-1172) | Unincorporated areas of Minnehaha County (10-08-0604P) | November 10, 2010; November 17, 2010; The Argus Leader | Mr. Ken McFarland Chairman, Minnehaha County Board of Commissioners, 415 North Dakota Avenue, Sioux Falls, SD 57104 | March 17, 2011 | 460057

(Catalog of Federal Domestic Assistance No. 97.022, “Flood Insurance.”)

Dated: June 15, 2011
Sandra K. Knight,
Deputy Federal Insurance and Mitigation Administrator, Mitigation, Department of Homeland Security, Federal Emergency Management Agency.

[FR Doc. 2011-17451 Filed 7-11-11; 8:45 am]

BILLING CODE 9110-12-P